DEPARTMENT OF HEALTH AND HUMAN SERVICES

Administration for Children and Families

Submission for OMB Review; Comment Request

Title: Uniform Project Description (UPD) for Discretionary Grant Application Form.

OMB No.: 0970-0139.

Description: The Administration for Children and Families (ACF) has more than 40 discretionary grant programs. The proposed information collection form would be a uniform discretionary application form usable for all of these grant programs to collect the information from grant applicants needed to evaluate and rank applicants and protect the integrity of the grantee selection process. All ACF discretionary grant programs would be eligible but not required to use this project description portion of the application form. When using the UPD, the project description portion of a program announcement consists of a series of text options which can be selected for individual projects. The combination of selected text options solicits information necessary to evaluate applications solicited for the particular program announcement. Guidance for the content of information requested in the project description is found in OMB Circulars A-102 and A-110.

Respondents: Applicants for ACF Discretionary Grant Programs

Annual Burden Estimates
Instrument | Number of respondents | Number of responses per respondent | Average burden hour per response | Total burden hours
UPD | 11,050 | 1 | 40 | 442,000

Estimated Total Annual Burden Hours: 442,000

SUPPLEMENTARY INFORMATION: Copies of the proposed collection may be obtained by writing to the Administration for Children and Families, Office of Administration, Office of Information Services, 370 L'Enfant Promenade, SW., Washington, DC 20447, Attn: ACF Reports Clearance Officer. All requests should be identified by the title of the information collection. E-mail address: grjohnson@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Attn: Desk Officer for ACF, E-mail address: katherine_t._astrich@omb.eop.gov.

Dated: March 22, 2004.
Robert Sargis,
Reports Clearance Officer.

[FR Doc. 04-6736 Filed 3-25-04; 8:45 am]

BILLING CODE 4184-01-M